FEDERAL RESERVE SYSTEM

Change in Bank Control Notices; Acquisition of Shares of Bank or Bank Holding Companies

The notificants listed below have applied under the Change in Bank Control Act (12 U.S.C. 19817 (j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 27, 2000.

A. Federal Reserve Bank of Chicago (Phillip Jackson, Applications Officer) 230 South LaSalle Street, Chicago, Illinois 60690-1414:

1. Tubbs-Ohnward Limited Partnership, Maquoketa, Iowa, General Partners, Edward L. Tubbs, Maquoketa, Iowa, Alan R. Tubbs, Maquoketa, Iowa; Steven E. Tubbs, Delmar, Iowa, AMBA Limited Partnership, Maquoketa, Iowa, General Partners, Alan R. Tubbs, Maquoketa, Iowa, Myrna J. Tubbs, DeWitt, Iowa, Brigham L. Tubbs, Clinton, Iowa, Abram A. Tubbs, Anamosa, Iowa, J.F. Limited Partnership, Maquoketa, Iowa, General Partners, John W. Fagerland, Maquoketa, Iowa; Evelyn L. Fagerland, Maquoketa, Iowa; Karen L. Slattery, Maquoketa, Iowa; Kendra L. Beck, Maquoketa, Iowa, and Krista L. Grant, Preston, Iowa, E.F. Limited Partnership, Maquoketa, Iowa, General Partners, John W. Fagerland, Maquoketa, Iowa, Evelyn L. Fagerland, Maquoketa, Iowa, Karen L. Slattery, Maquoketa, Iowa, Kendra L. Beck, Maquoketa, Iowa, and Krista L. Grant, Preston, Iowa; all to acquire voting shares of Ohnward Bancshares, Inc., Maquoketa, Iowa, and thereby indirectly acquire voting shares of Maquoketa State Bank, Maquoketa, Iowa, 1st Central State Bank, De Witt, Iowa, Tri-County Bank & Trust, Cascade, Iowa, and Gateway State Bank, Clinton, Iowa.

B. Federal Reserve Bank of St. Louis (Randall C. Sumner, Vice President) 411 Locust Street, St. Louis, Missouri 63166-2034:

1. David Gunter Hodo, Amory, Mississippi, to retain voting shares of Security Bancshares, Inc., Amory, Mississippi, and thereby indirectly retain voting shares of Security Bank of Amory, Amory, Mississippi.

Board of Governors of the Federal Reserve System, December 7, 2000.
Robert deV. Frierson
Associate Secretary of the Board.

[FR Doc. 00-31668 Filed 12-12-00; 8:45 am]

BILLING CODE 6210-01-S